ENVIRONMENTAL PROTECTION AGENCY

[EPA-HQ-OAR-2002-0058; FRL-8566-2]

Agency Information Collection Activities; Submission to OMB for Review and Approval; Comment Request; Information Collection Effort for Facilities With Combustion Units, EPA ICR Number 2286.01, OMB Control No. 2060-New

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before June 13, 2008.

ADDRESSES: Submit your comments, referencing Docket ID No. EPA-HQ-OAR-2002-0058, to (1) EPA online using www.regulations.gov (our preferred method), by e-mail to a-and-r-docket@epa.gov, or by mail to: EPA Docket Center, Environmental Protection Agency, Air and Radiation Docket and Information Center, Mailcode: 6102T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Jim Eddinger, Energy Strategies Group, Sector Policies and Program Division, (D243-01), Environmental Protection Agency, Research Triangle Park, North Carolina 27711; telephone number: (919) 541-5426; fax number: (919) 541-5450; e-mail address: eddinger.jim@epa.gov

SUPPLEMENTARY INFORMATION: EPA has submitted the following ICR to OMB for review and approval according to the procedures prescribed in 5 CFR 1320.12. On December 7, 2007 (72 FR 69213), EPA sought comments on this ICR pursuant to 5 CFR 1320.8(d). EPA received 11 comments during the comment period, which are addressed in the ICR. Any additional comments on this ICR should be submitted to EPA and OMB within 30 days of this notice.

EPA has established a public docket for this ICR under Docket ID No. EPA-HQ-OAR-2002-0058, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

Title: Information Collection Effort for Facilities with Combustion Units.

ICR numbers: EPA ICR No. 2286.01, OMB Control No. 2060-New.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This information collection will be conducted by EPA's Office of Air and Radiation (OAR) to assist the Administrator of EPA, as required by sections 112(d) and 129 of the Clean Air Act (CAA), in determining the current population of affected combustion units and to develop emission standards for these source categories.

There will be two components to the information collection. To obtain the information necessary to identify and categorize all boilers and process heaters potentially affected by the revised standards, the first component of this ICR will solicit information from all potentially affected units in the format of an electronic survey under authority of section 114 of the CAA. The survey will be submitted to all facilities that either submitted an initial notification for the vacated standard (40 CFR Part 63, subpart DDDDD, which was vacated by the Courts on June 8, 2007), or if initial notification data is not available, it will be sent to all facilities identified by States as being subject to the vacated standard, or facilities that are classified as a major source in their Title V permit that have a boiler or process heater listed in their permit. The survey will also be sent to units covered by the 2000 emissions standards for commercial and industrial solid waste incineration units (40 CFR Part 60 Subpart CCCC) (2000 CISWI standard) and to facilities that have incineration units that were listed as exempt under the 2000 CISWI standard. A facility will complete the survey for all combustion units located at the facility. If a facility receiving the survey also has an incinerator at the same source, they will be required to complete a separate survey section to classify their incinerator design, operations, air pollution control, emissions, and fuel.

The second component will consist of requiring, if deemed necessary, again under the authority of section 114 of the CAA, the owners/operators of up to a total of 350 combustion units to conduct emission testing for hazardous air pollutants (HAP) and HAP surrogates. The Agency will analyze the results of the survey to determine if sufficient data exist to develop emission standards under sections 112(d) and 129 of the CAA for all subcategories of fuel and combustor types. If data are not sufficient, then the Agency will design a statistical sample to select pools of candidates to conduct emission testing. The Agency will submit a list of candidates within each category to stakeholders for their review and comment. The Agency will make a random selection of test sites, within each category, after taking into account stakeholders comments. The testing results will be required to be submitted to the Agency.

Burden Statement: The annual public reporting and recordkeeping burden for this collection of information is estimated to average 24 hours per response for the survey and 85 hours per response for the stack testing. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Respondents affected by this action may be owners/operators of industrial, commercial, and institutional boilers and process heaters as defined under the vacated boiler and process heater NESHAP.

Estimated Number of Respondents: 3,396.

Frequency of Response: One time.

Estimated Total Annual Hour Burden: 37,328.

Estimated Total Annual Cost: $13,118,852. This includes estimated O&M costs of $1,133 for the electronic survey component and $10,507,117 for the stack testing component. There are no capital or start-up costs.

Changes in the Estimates: Because this is a new ICR, there is no burden currently identified in the OMB Inventory of Approved ICR Burdens.

Dated: May 8, 2008.
Sara Hisel-McCoy,
Director, Collection Strategies Division.

[FR Doc. E8-10827 Filed 5-13-08; 8:45 am]

BILLING CODE 6560-50-P